DEPARTMENT OF ENERGY

Environmental Management Site-Specific Advisory Board, Fernald

AGENCY: Department of Energy.

ACTION: Notice of open meeting.

SUMMARY: This notice announces a meeting of the Environmental Management Site-Specific Advisory Board (EMSSAB), Fernald. The Federal Advisory Committee Act (Pub. L. No. 92-46, 86 Stat. 770) requires that public notice of this meeting be announced in the Federal Register.

DATES: Saturday, February 12, 2005, 8:30 a.m.-12 noon.

ADDRESSES: Morgan Township Administration Building, 3141 Chapel Road, Morgan Township, Ohio.

FOR FURTHER INFORMATION CONTACT: Doug Sarno, The Perspectives Group, Inc., 1055 North Fairfax Street, Suite 204, Alexandria, VA 22314, at (703) 837-1197, or e-mail; djsarno@theperspectivesgroup.com.

SUPPLEMENTARY INFORMATION: Purpose of the Board: The purpose of the Board is to make recommendations to DOE in the areas of environmental restoration, waste management, and related activities.

Tentative Agenda:

8:30 a.m. Call to Order.

8:35 a.m. Updates and Announcements.

9 a.m. Status of Silos Disposition Contracts.

9:30 a.m. Post-Closure Public Involvement Legacy Management Community Involvement Plan for Fernald Local Stakeholder Organizations (LSOs).

10:15 a.m. Break.

11:15 a.m. Review FCAB History Outline.

11:40 a.m. FY 2005 Meeting Plan.

11:50 a.m. Public Comment.

12 p.m. Adjourn.

Public Participation: The meeting is open to the public. Written statements may be filed with the Board chair either before or after the meeting. Individuals who wish to make oral statements pertaining to agenda items should contact the Board chair at the address or telephone number listed below. Requests must be received five days prior to the meeting and reasonable provisions will be made to include the presentation in the agenda. The Deputy Designated Federal Officer, Gary Stegner, Public Affairs Office, Ohio Field Office, U.S. Department of Energy, is empowered to conduct the meeting in a fashion that will facilitate the orderly conduct of business. Individuals wishing to make public comment will be provided a maximum of five minutes to present their comments. This notice is being published less than 15 calendar days before the date of meeting due to programmatic issues.

Minutes: The minutes of this meeting will be available for public review and copying at the Department of Energy's Freedom of Information Public Reading Room, 1E-190, Forrestal Building, 1000 Independence Avenue, SW., Washington, DC, 20585 between 9 a.m. and 4 p.m., Monday-Friday, except Federal holidays. Minutes will also be available by writing to the Fernald Citizens' Advisory Board, Phoenix Environmental Corporation, MS-76, Post Office Box 538704, Cincinnati, OH 43253-8704, or by calling the Advisory Board at (513) 648-6478.

Issued at Washington, DC on January 31, 2005.
Rachel Samuel,
Deputy Advisory Committee Management Officer.

[FR Doc. 05-2099 Filed 2-2-05; 8:45 am]

BILLING CODE 6450-01-P